DEPARTMENT OF COMMERCE

Foreign-Trade Zones Board

[B-45-2015]

Foreign-Trade Zone (FTZ) 277—Western Maricopa County, Arizona; Authorization of Production Activity; The Cookson Company, Inc. (Rolling Steel Doors); Goodyear, Arizona

On July 13, 2015, The Cookson Company, Inc. submitted a notification of proposed production activity to the Foreign-Trade Zones (FTZ) Board for its facility within FTZ 277—Site 11, in Goodyear, Arizona.

The notification was processed in accordance with the regulations of the FTZ Board (15 CFR part 400), including notice in the Federal Register inviting public comment (80 FR 42789, July 20, 2015). The FTZ Board has determined that no further review of the activity is warranted at this time. The production activity described in the notification is authorized, subject to the FTZ Act and the FTZ Board's regulations, including Section 400.14.

Dated: November 10, 2015.
Elizabeth Whiteman,
Acting Executive Secretary.

[FR Doc. 2015-29250 Filed 11-13-15; 8:45 am]

BILLING CODE 3510-DS-P